MARINE MAMMAL COMMISSION

Sunshine Act Notice

TIME AND DATE: The Marine Mammal Commission and its Committee of Scientific Advisors on Marine Mammals will hold a public meeting on Tuesday, 23 March 2021, from 1:00 p.m. to 4:00 p.m.

PLACE: This meeting will be conducted by remote means.

STATUS: This meeting will be held in accordance with the provisions of the Government in the Sunshine Act (5 U.S.C. 552b) and the Federal Advisory Committee Act (5 U.S.C. App. I) and will be open to the public. Public participation will be allowed as time permits and as determined to be desirable by the Chairman. The Commission will livestream the meeting via a Zoom webinar. For further information and to register for the webinar, go to the Commission's website at https://www.mmc.gov/events-meetings-and-workshops/other-events/effects-of-low-salinity-exposure-on-bottlenose-dolphins-webinar/.

MATTERS TO BE CONSIDERED: The Commission and Committee will meet to consider the effects of low salinity exposure on bottlenose dolphins. Specifically, meeting participants will review the findings of the Northern Gulf of Mexico bottlenose dolphin unusual mortality event (https://www.fisheries.noaa.gov/national/marine-life-distress/2019-bottlenose-dolphin-unusual-mortality-event-along-northern-gulf), provide information on the potential impacts of low-salinity exposure on dolphins and their prey, identify data needs, and discuss options for mitigating and monitoring impacts to dolphins and their prey from future low-salinity exposure. The agenda for the meeting is posted on the Commission's website at https://www.mmc.gov/events-meetings-and-workshops/other-events/effects-of-low-salinity-exposure-on-bottlenose-dolphins-webinar/.

CONTACT PERSON FOR MORE INFORMATION: Victoria Cornish, Energy Policy Analyst, Marine Mammal Commission, 4340 East West Highway, Room 700, Bethesda, MD 20814; (301) 504-0087; email: mmc@mmc.gov.

Catherine Shrestha,
Administrative Officer.

[FR Doc. 2021-05034 Filed 3-8-21; 11:15 am]

BILLING CODE 6820-31-P